DEPARTMENT OF TRANSPORTATION

Federal Aviation Administration

14 CFR Part 39

[Docket No. 2000-SW-21-AD; Amendment 39-11917; AD 2000-20-06]

RIN 2120-AA64

Airworthiness Directives; Agusta S.p.A. Model A109K2 and A109E Helicopters

AGENCY: Federal Aviation Administration, DOT.

ACTION: Final rule; request for comments.

SUMMARY: This amendment adopts a new airworthiness directive (AD) for Agusta S.p.A. (Agusta) Model A109K2 and A109E helicopters. This AD requires replacing a certain main transmission aft support fitting (aft support fitting) with an airworthy aft support fitting within specified time intervals and establishes a retirement life for certain aft support fittings. This AD is prompted by three failures of the engine to main gearbox drive shaft due to fatigue cracks on the aft support fittings. This condition, if not corrected, could result in excessive displacement of the main gearbox, failure of an engine to main gearbox drive shaft, loss of power to the main rotor, and a subsequent forced landing.

DATES: Effective October 17, 2000.

Comments for inclusion in the Rules Docket must be received on or before December 1, 2000.

ADDRESSES: Submit comments in triplicate to the Federal Aviation Administration (FAA), Office of the Regional Counsel, Southwest Region, Attention: Rules Docket No. 2000-SW-21-AD, 2601 Meacham Blvd., Room 663, Fort Worth, Texas 76137. You may also send comments electronically to the Rules Docket at the following address: 9-asw-adcomments@faa.gov.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: The Ente Nazionale per l'Aviazione Civile (ENAC), which is the airworthiness authority for Italy, notified the FAA that an unsafe condition may exist on Agusta Model A109K2 and A109E helicopters. The ENAC advises replacing certain support fittings.

Agusta has issued Alert Bollettino Tecnico (Technical Bulletin) No. 109K-25 and No. 109EP-7, both dated March 3, 2000, which specify replacing the left and right aft aluminum support fittings with improved steel support fittings and establishes a new retirement life for the aluminum support fittings installed on the aft end of the main transmission. The ENAC classified those technical bulletins as mandatory and issued AD No. 2000-128, dated March 6, 2000, to assure the continued airworthiness of these helicopters in Italy.

These helicopter models are manufactured in Italy and are type certificated for operation in the United States under the provisions of section 21.29 of the Federal Aviation Regulations (14 CFR 21.29) and the applicable bilateral airworthiness agreement. Pursuant to this bilateral airworthiness agreement, the ENAC has kept the FAA informed of the situation described above. The FAA has examined the findings of the ENAC, reviewed all available information, and determined that AD action is necessary for products of this type design that are certificated for operation in the United States.

The FAA has identified an unsafe condition that is likely to exist or develop on other Agusta Model A109K2 and A109E helicopters of the same type designs registered in the United States. This AD is being issued to prevent cracks on the aft support fittings that could result in excessive displacement of the main gearbox, failure of an engine to main gearbox drive shaft, loss of power to the main rotor, and a subsequent forced landing. This AD requires replacing any aft support fitting, P/N 109-0325-08-01, with an airworthy support fitting, P/N 109-0325-08-109, within specified time intervals and establishes a retirement life of 150 hours TIS for support fittings, P/N 109-0325-08-01, installed on the aft end of the main transmission. Installing the support fittings, P/N 109-0325-08-109, constitutes terminating action for the requirements of this AD. The short compliance time involved is required because the previously described critical unsafe condition can adversely affect the structural integrity of the helicopter. Therefore, replacing certain support fittings with 140 hours TIS or more is required within 10 hours TIS, and this AD must be issued immediately.

Since a situation exists that requires the immediate adoption of this regulation, it is found that notice and opportunity for prior public comment hereon are impracticable, and that good cause exists for making this amendment effective in less than 30 days.

The FAA estimates that 4 helicopters will be affected by this AD, that it will take approximately 9 work hours per Agusta Model A109E helicopter and 6 work hours per Agusta Model A109K2 helicopter to replace the support fittings, and that the average labor rate is $60 per work hour. The manufacturer has stated in the technical bulletins that labor will be reimbursed up to $40 per work hour for the Agusta Model A109E, and all required parts for both model helicopters will be provided under warranty. Based on these figures, the total cost impact of the AD on U.S. operators is estimated to be $1,440.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-21-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000—20-06 Agusta S.p.A.: Amendment 39-11917. Docket No. 2000-SW-21-AD.

Applicability: Model A109K2 with serial number (S/N) up to and including 10036 and Model A109E with S/N up to and including 11069, excluding A109E helicopters with serial number 11049, 11055, 11056, or 11067, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent a crack in a main transmission aft support fitting (aft support fitting) that could result in excessive displacement of the main gearbox, failure of an engine to main gearbox drive shaft, loss of power to the main rotor, and a subsequent forced landing, accomplish the following:

(a) Remove each main transmission aft support fitting, part number (P/N) 109-0325-08-01 and replace it with an airworthy support fitting, P/N 109-0325-08-109, as follows:

(1) For an aft support fitting, P/N 109-0325-08-01, with less than 140 hours time-in-service (TIS), replace it at or before 150 hours TIS.

(2) For an aft support fitting, P/N 109-0325-08-01, with 140 or more hours TIS, replace it within 10 hours TIS.

Note 2: Agusta Alert Bollettino Tecnico (Technical Bulletin) No. 109K-25 and No. 109EP-7, both dated March 3, 2000, pertain to the subject of this AD.

(b) This AD revises the Airworthiness Limitations Section of the applicable maintenance manual by establishing a life limit of 150 hours TIS for the aft support fitting, P/N 109-0325-08-01.

(c) Replacing all aft support fittings, P/N 109-0325-08-01, with support fittings, P/N 109-0325-08-109, constitutes terminating action for the requirements of this AD.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(e) Special flight permits may be issued in accordance with sections 21.197 and 21.199 of the Federal Aviation Regulations (14 CFR 21.197 and 21.199) to operate the helicopter to a location where the requirements of this AD can be accomplished.

(f) This amendment becomes effective on October 17, 2000.

Note 4: The subject of this AD is addressed in Ente Nazionale per l'Aviazione Civile (Italy) AD No. 2000-128, dated March 6, 2000.

Issued in Fort Worth, Texas, on September 25, 2000.
Eric Bries,
Acting Manager, Rotorcraft Directorate, Aircraft Certification Service.

[FR Doc. 00-25151 Filed 9-29-00; 8:45 am]

BILLING CODE 4910-13-P